DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection, titled the Small Business Innovation Research (SBIR) and Small Business Technology Transfer (STTR) Commercialization Survey will satisfy the program requirements of the Small Business Act, including requirements established in the SBIR program reauthorization legislation, Public Law 106-554 and Public Law 107-50. DOE will collect the survey data via Web-enabled software and provide it to the Small Business Administration (SBA) to maintain information about the DOE SBIR/STTR awards issued through the two programs. This data will be provided by DOE based on information collected from SBIR/STTR awardees. This data will be used by DOE, SBA, and Congress to assess the commercial impact of these two programs.

DATES: Comment period ends on February 25, 2015. If you anticipate submitting comments, but find it difficult to do so within the comment period, please advise the DOE Desk Officer at OMB of your intention to make a submission as soon as possible. The Desk Officer may be telephoned at 202-395-4560.

ADDRESSES: Written comments should be sent to the DOE Desk Officer, Office of Information and Regulatory Affairs, Office of Management and Budget, New Executive Office Building, Room 10102, 735 17th Street NW., Washington, DC 20503.

FOR FURTHER INFORMATION CONTACT: Requests for additional information or copies of the information collection instrument and instructions should be directed to Chris O'Gwin by email at chris.ogwin@science.doe.gov or by fax at (301) 903-5488.

SUPPLEMENTARY INFORMATION: This information collection request contains: (1) OMB No.: 1910-5166; (2) Information Collection Request Title: Small Business Innovation Research (SBIR) and Small Business Technology Transfer (STTR) Commercialization Survey; (3) Type of Request: New; (4) Purpose: The DOE needs this information to satisfy the program requirements of the Small Business Act, including requirements established in the SBIR program reauthorization legislation, Public Law 106-554 and Public Law 107-50. This data will be collected by the DOE and provided to the Small Business Administration (SBA) to maintain information about SBIR/STTR awards issued through the two programs. This data will be provided by DOE based on information collected from SBIR/STTR awardees. This data will be used by DOE, SBA, and Congress to assess the commercial impact of these two programs; (5) Annual Estimated Number of Respondents: 2,500; (6) Annual Estimated Number of Total Responses: 2,500; (7) Annual Estimated Number of Burden Hours: 2,500; (8) Annual Estimated Reporting and Recordkeeping Cost Burden: $120,000.

Statutory Authority: Section 9 of the Small Business Act, as amended, codified at 15 U.S.C. 638(g).

Issued in Washington, DC, on January 12, 2015.
Manny Oliver,
SBIR/STTR Programs Director, Office of Science, U.S. Department of Energy.

[FR Doc. 2015-01285 Filed 1-23-15; 8:45 am]

BILLING CODE 6450-01-P